ENVIRONMENTAL PROTECTION AGENCY

[FRL-9216-4]

Science Advisory Board Staff Office Request for Nominations of Experts for the Consultation on Revisions to the Multi-Agency Radiation Survey and Site Investigation Manual

AGENCY: Environmental Protection Agency (EPA).

ACTION: Notice.

SUMMARY: The EPA Science Advisory Board (SAB) Staff Office is requesting public nominations for technical experts to augment the SAB's Radiation Advisory Committee (RAC) to conduct a consultation on revision to the Multi-Agency Radiation Survey and Site Investigation Manual.

DATES: Nominations should be submitted by November 12, 2010 per instructions below.

FOR FURTHER INFORMATION CONTACT: Any member of the public wishing further information regarding this Notice and Request for Nominations may contact Dr. K. Jack Kooyoomjian, Designated Federal Officer (DFO), SAB Staff Office, by telephone/voice mail at (202) 564-2064, or via e-mail at kooyoomjian.jack@epa.gov. General information concerning the EPA Science Advisory Board can be found at the EPA SAB Web site at http//www.epa.gov/sab.

SUPPLEMENTARY INFORMATION: Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB will comply with the provisions of FACA and all appropriate SAB Staff Office procedural policies.

The Federal Inter-Agency Multi-Agency Radiation Survey and Site Investigation Manual (MARSSIM) Workgroup plans to issue a Revision 2 to the MARSSIM. The document to be revised, “MARSSIM, Rev.1 (2001),” is available at http://www.epa.gov/radiation/marssim/obtain.html. The MARSSIM is the official multi-agency (U.S. EPA, U.S. Nuclear Regulatory Commission, U.S. Department of Energy and U.S. Department of Defense) consensus document on planning, coordinating, evaluating and documenting environmental radiological surveys. The MARSSIM, Rev. 1 (2001) provides explicit guidance to Federal agencies and other parties, including states, site owners, contractors and private entities on how to demonstrate that their site is in compliance with a radiation dose or risk-based regulation, otherwise known as a release criterion.

Specifically, the update to the MARSSIM is anticipated to include incorporation of an improved treatment of measurement uncertainty, additional survey methods made possible by improvements in technology, more extensive discussion on areas of elevated activity [hotspots and Uranium Mill Tailings Radiation Control Act (UMTRCA) standards], and a variety of other improvements resulting from feedback received from users since issuance of the document. The planned revision reflects changes in science and technology, as well as twelve years of combined Federal experience in utilizing MARSSIM. This effort reflects a major extension of a multi-agency initiative to provide Federal guidance on determining whether a radioactively-contaminated site (including materials and equipment located on or used at the site) has been adequately cleaned up.

To support development of this update, EPA's Office of Radiation and Indoor Air (ORIA), on behalf of the Federal Inter-Agency MARSSIM Workgroup, has requested an SAB consultation to seek advice early in the process for technical and scientific improvements to MARSSIM leading to the issuance of Revision 2. In response to ORIA's request, the SAB Radiation Advisory Committee (RAC) will be augmented with additional experts to conduct this consultation.

Request for Nominations: The SAB Staff Office is seeking nominations of nationally and internationally recognized scientists and engineers with demonstrated expertise and experience in one or more of the following areas: Environmental monitoring and sampling, geology, hydrogeology, measurement protocols for radionuclides, metrology, radiation science and statistics.

Additional Information: For questions concerning “MARSSIM, Rev. 1(2001),” please contact Dr. Mary E. Clark of the U.S. EPA, ORIA by telephone at (202) 343-9348, fax at (202) 343-2395, or e-mail at clark.marye@epa.gov.

Process and Deadline for Submitting Nominations: Any interested person or organization may nominate qualified individuals in the areas of expertise described above for possible service on this expert Panel. Nominations should be submitted in electronic format (which is preferred over hard copy) following the instructions for “Nominating Experts to Advisory Panels and Ad Hoc Committees Being Formed” provided on the SAB Web site. The instructions can be accessed through the “Nomination of Experts” link on the blue navigational bar on the SAB Web site at http://www.epa.gov/sab. To receive full consideration, nominations should include all of the information requested below.

EPA's SAB Staff Office requests contact information about the person making the nomination; contact information about the nominee; the disciplinary and specific areas of expertise of the nominee; the nominee's curriculum vita; sources of recent grant and/or contract support; and a biographical sketch of the nominee indicating current position, educational background, research activities, and recent service on other national advisory committees or national professional organizations.

Persons having questions about the nomination procedures, or who are unable to submit nominations through the SAB Web site, should contact Dr. K. Jack Kooyoomjian, DFO, as indicated above in this notice. Nominations should be submitted in time to arrive no later than November 12, 2010. EPA values and welcomes diversity. In an effort to obtain nominations of diverse candidates, EPA encourages nominations of women and men of all racial and ethnic groups.

The EPA SAB Staff Office will acknowledge receipt of nominations. The names and bio-sketches of qualified nominees identified by respondents to this Federal Register notice, and additional experts identified by the SAB Staff, will be posted in a List of Candidates on the SAB Web site at http://www.epa.gov/sab. Public comments on this List of Candidates will be accepted for 21 calendar days. The public will be requested to provide relevant information or other documentation on nominees that the SAB Staff Office should consider in evaluating candidates.

For the EPA SAB Staff Office, a review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for Panel membership include: (a) Scientific and/or technical expertise, knowledge, and experience (primary factors); (b) availability and willingness to serve; (c) absence of financial conflicts of interest; (d) absence of an appearance of a lack of impartiality; and (e) skills working in committees, subcommittees and advisory panels; and, (f) for the Panel as a whole, diversity of expertise and viewpoints.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: October 15, 2010.
Vanessa T. Vu,
Director, EPA Science Advisory Board Staff Office.

[FR Doc. 2010-26656 Filed 10-20-10; 8:45 am]

BILLING CODE 6560-50-P